DEPARTMENT OF THE INTERIOR

National Park Service

[NPS-WASO-NAGPRA-NPS0037200; PPWOCRADN0-PCU00RP14.R50000]

Notice of Inventory Completion: Portland State University, Portland, OR

AGENCY: National Park Service, Interior.

ACTION: Notice.

SUMMARY: In accordance with the Native American Graves Protection and Repatriation Act (NAGPRA), Portland State University (PSU) has completed an inventory of human remains and associated funerary objects and has determined that there is a cultural affiliation between the human remains and associated funerary objects and Indian Tribes or Native Hawaiian organizations in this notice. The human remains and associated funerary objects were removed from southwest Florida.

DATES: Repatriation of the human remains and associated funerary objects in this notice may occur on or after February 7, 2024.

ADDRESSES: Reno Nims, Portland State University, Research & Graduate Studies, P.O. Box 751, Portland, OR 97207, telephone (503) 725-6611, email nagpra@pdx.edu.

SUPPLEMENTARY INFORMATION: This notice is published as part of the National Park Service's administrative responsibilities under NAGPRA. The determinations in this notice are the sole responsibility of PSU. The National Park Service is not responsible for the determinations in this notice. Additional information on the determinations in this notice, including the results of consultation, can be found in the inventory or related records held by PSU.

Description

Human remains representing, at minimum, six individuals were removed from unknown locations in southwest Florida at an unknown date. PSU faculty members encountered these human remains in the Anthropology Department's archeology holdings at an unknown date between 1990 and 2002 in a box labeled “Arch-2 Burial.” Some of the human remains in this box were kept in a bag labeled “Florida,” and they were associated with other Native American human remains that were removed from Galt's Kay in Sarasota County, FL (Smithsonian catalog number: 292.763) and Casey Key in Lee County, FL (Smithsonian catalog numbers: 229.311, 229.316, 229.319, 229.320, 229.324, 229.328, 229.330, 229.334, 229.253, 229.259, and 229.844) by Aleš Hrdlička in 1916 or 1917 that are under the control of the Smithsonian National Museum of Natural History. These human remains are all reasonably believed to have been brought to PSU by Marshall “Bud” Newman in 1962 when he left his position as Associate Curator of Physical Anthropology at the Smithsonian National Museum of Natural History to join the Anthropology Department at PSU. The 11 associated funerary objects are six pieces of worked faunal remains, two stone projectile points, one stone drill, one metal fragment, and one stone bowl fragment.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, and historical information.

Determinations

Pursuant to NAGPRA and its implementing regulations, and after consultation with the appropriate Indian Tribes and Native Hawaiian organizations, PSU has determined that:

• The human remains described in this notice represent the physical remains of six individuals of Native American ancestry.

• The 11 objects described in this notice are reasonably believed to have been placed with or near individual human remains at the time of death or later as part of the death rite or ceremony.

• There is a relationship of shared group identity that can be reasonably traced between the human remains and associated funerary objects described in this notice and the Seminole Tribe of Florida and The Seminole Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 7, 2024. If competing requests for repatriation are received, PSU must determine the most appropriate requestor prior to repatriation. Requests for joint repatriation of the human remains and associated funerary objects are considered a single request and not competing requests. PSU is responsible for sending a copy of this notice to the Indian Tribes and Native Hawaiian organizations identified in this notice.

Authority: Native American Graves Protection and Repatriation Act, 25 U.S.C. 3003, and the implementing regulations, 43 CFR 10.9, 10.10, and 10.14.

Dated: December 28, 2023.
Melanie O'Brien,
Manager, National NAGPRA Program.

[FR Doc. 2024-00129 Filed 1-5-24; 8:45 am]

BILLING CODE 4312-52-P